DEPARTMENT OF ENERGY

Federal Energy Regulatory Commission

[Project No. 3133-033]

Brookfield White Pine Hydro, LLC, Errol Hydro Co., LLC; Notice of Intent to Prepare an Environmental Assessment

On July 30, 2021, Brookfield White Pine Hydro, LLC and Errol Hydro Co., LLC filed an application for a new major license for the 2.031-megawatt Errol Hydroelectric Project (Errol Project; FERC No. 3133). The Errol Project is located on the Androscoggin River and Umbagog Lake, near the Town of Errol, and Township of Cambridge, in Coos Wing County, New Hampshire and the Towns of Magalloway Plantation and Upton in Oxford County, Maine. The project occupies 3,285 acres of federal land in the Umbagog National Wildlife Refuge administered by the U.S. Fish and Wildlife Service.

In accordance with the Commission's regulations, on April 4, 2022, Commission staff issued a notice that the project was ready for environmental analysis (REA Notice). Based on the information in the record, including comments filed on the REA Notice, staff does not anticipate that licensing the project would constitute a major federal action significantly affecting the quality of the human environment. Therefore, staff intends to prepare a draft and final Environmental Assessment (EA) on the application to relicense the Errol Project.

The EA will be issued and circulated for review by all interested parties. All comments filed on the EA will be analyzed by staff and considered in the Commission's final licensing decision.

The application will be processed according to the following schedule. Revisions to the schedule may be made as appropriate.

Milestone | Target date
Commission issues draft EA | December 2022
Comments on draft EA | January 2023
Commission issues final EA | June 2023 ¹

Any questions regarding this notice may be directed to Kelly Wolcott at (202) 502-6480 or kelly.wolcott@ferc.gov.

¹ The Council on Environmental Quality's (CEQ) regulations under 40 CFR 1501.10(b)(1) require that EAs be completed within 1 year of the federal action agency's decision to prepare an EA. This notice establishes the Commission's intent to prepare a draft and final EA for the Errol Project. Therefore, in accordance with CEQ's regulations, the final EA must be issued within 1 year of the issuance date of this notice.

Dated: June 15, 2022.
Debbie-Anne A. Reese,
Deputy Secretary.

[FR Doc. 2022-13336 Filed 6-21-22; 8:45 am]

BILLING CODE 6717-01-P